DEPARTMENT OF HEALTH AND HUMAN SERVICES

Substance Abuse and Mental Health Services Administration

Notice of Extension of Receipt Dates for SAMHSA Funding Opportunities—TI 05-006, State Adolescent Substance Abuse Treatment Coordination, and TI 05-003, Grants to Expand Substance Abuse Treatment Capacity in Targeted Areas of Need

SUMMARY: Notices of Funding Availability (NOFAs), TI 05-006, State Adolescent Substance Abuse Treatment Coordination (Short Title: Adolescent Treatment Coordination), and TI 05-003, Grants to Expand Substance Abuse Treatment Capacity in Targeted Areas of Need (Short Title: TCE), were announced by the Substance Abuse and Mental Health Services Administration (SAMHSA) Center for Substance Abuse Treatment (CSAT) in the Federal Register on November 12, 2004 (Vol. 69, No. 218; pages 65437-65445).

The receipt date for applications listed for TI 05-006, State Adolescent Substance Abuse Treatment Coordination was January 12, 2005. This program is designed to facilitate State-level coordination of adolescent substance abuse treatment services. Because of the extensive coordination required to prepare an application, SAMHSA has extended the application receipt date until February 2, 2005.

The receipt date for applications listed for TI 05-003, Grants to Expand Substance Abuse Treatment Capacity in Targeted Areas of Need (TCE), was January 13, 2005. This program is designed to expand and/or enhance a community's ability to provide a comprehensive, integrated, and community-based response to a targeted, well-documented substance abuse treatment capacity problem and/or improve the quality and intensity of services. Because the populations targeted are different than in past TCE initiatives, SAMHSA has extended the application receipt date until January 26, 2005.

For further information about the State Adolescent Substance Abuse Treatment Coordination program, please contact: Randolph D. Muck, SAMHSA/CSAT, 1 Choke Cherry Road, Room 5-1083, Rockville, MD 20857; phone 240-276-1576; E-mail: randy.muck@samhsa.hhs.gov.

For further information about the Grants To Expand Substance Abuse Treatment Capacity in Targeted Areas of Need (TCE) program, please contact: Kenneth Robertson, SAMHSA/CSAT, 1 Choke Cherry Road, Room 5-1001, Rockville, MD 20857; phone (240) 276-1621; E-mail: kenneth.robertson@samhsa.hhs.gov.

Dated: December 13, 2004.
Daryl Kade,
Director, Office of Policy, Planning and Budget, Substance Abuse and Mental Health Services Administration.

[FR Doc. 04-27808 Filed 12-17-04; 8:45 am]

BILLING CODE 4162-20-P